DEPARTMENT OF ENERGY

Federal Energy Regulatory Commission

Combined Notice of Filings

Take notice that the Commission has received the following Natural Gas Pipeline Rate and Refund Report filings:

Docket Numbers: RP21-744-000.

Applicants: Eastern Shore Natural Gas Company.

Description: § 4(d) Rate Filing: State Route 72 DCRC Non-Conforming & Negotiated Rate to be effective 4/26/2021.

Filed Date: 4/22/21.

Accession Number: 20210422-5017.

Comments Due: 5 p.m. ET 5/4/21.

Docket Numbers: RP21-745-000.

Applicants: Tennessee Gas Pipeline Company, L.L.C..

Description: § 4(d) Rate Filing: Volume No. 2—Macquarie Energy, LLC SP365448 to be effective 5/1/2021.

Filed Date: 4/22/21.

Accession Number: 20210422-5045.

Comments Due: 5 p.m. ET 5/4/21.

Docket Numbers: RP21-746-000.

Applicants: East Tennessee Natural Gas, LLC.

Description: East Tennessee Natural Gas, LLC submits request for a 3-month extension of time, or until 06/30/2021, to submit the annual fuel filing under RP21-746.

Filed Date: 4/22/21.

Accession Number: 20210422-5186.

Comments Due: 5 p.m. ET 5/4/21.

Docket Numbers: RP19-1353-012.

Applicants: Northern Natural Gas Company.

Description: Compliance filing 20210423 Form 2 Calculated Factor and Maintenance Capital Spending Report.

Filed Date: 4/23/21.

Accession Number: 20210423-5047.

Comments Due: 5 p.m. ET 5/5/21.

Docket Numbers: RP21-747-000.

Applicants: Infinite Energy, LLC, Gas South, LLC.

Description: Joint Petition for Limited Waiver of Capacity Release Regulations, et al. of Infinite Energy, LLC, et al. under RP21-747.

Filed Date: 4/23/21.

Accession Number: 20210423-5160.

Comments Due: 5 p.m. ET 4/30/21.

Docket Numbers: RP21-748-000.

Applicants: Dominion Energy Overthrust Pipeline, LLC.

Description: § 4(d) Rate Filing: Statement of Negotiated Rates Version 12.0.0 to be effective 5/24/2021.

Filed Date: 4/23/21.

Accession Number: 20210423-5188.

Comments Due: 5 p.m. ET 5/5/21.

Docket Numbers: RP21-749-000.

Applicants: Dominion Energy Questar Pipeline, LLC.

Description: § 4(d) Rate Filing: Statement of Negotiated Rates Version 18.0.0 to be effective 5/24/2021.

Filed Date: 4/23/21.

Accession Number: 20210423-5193.

Comments Due: 5 p.m. ET 5/5/21.

Docket Numbers: RP21-750-000.

Applicants: Florida Southeast Connection, LLC.

Description: Annual System Balancing Adjustment Filing of Florida Southeast Connection, LLC under RP21-750..

Filed Date: 4/23/21.

Accession Number: 20210423-5250.

Comments Due: 5 p.m. ET 5/5/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 26, 2021.
Kimberly D. Bose,
Secretary.

[FR Doc. 2021-09060 Filed 4-29-21; 8:45 am]

BILLING CODE 6717-01-P